DEPARTMENT OF HEALTH AND HUMAN SERVICES

National Institutes of Health

Statement of Organization, Functions, and Delegations of Authority

Part N, National Institutes of Health, of the Statement of Organization, Functions, and Delegations of Authority for the Department of Health and Human Services (HHS) (40 FR 22859, May 27, 1975, as amended most recently at 69 FR 64081, November 3, 2004, and redesignated from Part HN as part N at 60 FR 56606, November 9, 1995), is amended as set forth below to reflect the reorganization of the Office of the Director, NIH, by transferring the Office of Community Liaison from the Office of the Director (OD) to the Office of Communications and Public Liaison, OD.

Section N-B, Organization and Functions, under the heading Office of the Director (NA, formerly HNA), is amended as follows:

(1) Under the heading Office of Communications and Public Liaison (NA8, formerly HNA8) insert the following:

Office of Community Liaison (NA85, formerly HNA85). (1) Advises the NIH Director on policies, programs, and issues involving the NIH and the surrounding community; (2) plans and directs activities to promote collaboration and cooperation between the NIH and the surrounding community; (3) conducts and oversees studies, projects, and evaluations designed to address problems, questions, and issues of community concern and environmental impact; (4) ensures that NIH activities affecting the surrounding community involve community representation at all levels of design, review, and implementation; and (5) ensures effective communication and collaboration on policy and programs involving the surrounding community between the Office of the Director, NIH, and operating components of the NIH.

(2) Delete the Office of Community Liaison (NAP, formerly HNAP) in its entirety.

Delegations of Authority: All delegations and redelegations of authority to officers and employees of NIH that were in effect immediately prior to the effective date of this amendment and are consistent with this amendment shall continue in effect, pending further redelegation.

Dated: November 4, 2005.
Elias A. Zerhouni,
Director, National Institutes of Health.

[FR Doc. 06-144 Filed 1-6-06; 8:45 am]

BILLING CODE 4140-01-M